CIVIL RIGHTS COLD CASE RECORDS REVIEW BOARD

[Agency Docket Number: CRCCRRB-2025-0018-N]

Notice of Formal Determination on Records Release

AGENCY: Civil Rights Cold Case Records Review Board.

ACTION: Notice.

SUMMARY: The Civil Rights Cold Case Records Review Board received 4,106 pages of records from the National Archives and Records Administration (NARA), the Department of Justice, and the Federal Bureau of Investigation (FBI) related to four civil rights cold case incidents to which the Review Board assigned the unique identifiers 2024-003-011, 2024-003-028, 2024-003-046, and 2024-003-064. NARA, the Department of Justice, and the FBI proposed 936 postponements in the records related to incidents 2024-003-011 and 2024-003-046. The Department of Justice and the FBI later withdrew 175 of the postponements the agencies proposed after consultation with the Review Board. On June 20, 2025 and June 27, 2025, the Review Board met and approved 264 postponements and portions of 63 additional postponements, and determined that 3,959 pages in full and 147 pages in part should be publicly disclosed in the Civil Rights Cold Case Records Collection. By issuing this notice, the Review Board complies with the Civil Rights Cold Case Records Collection Act of 2018 that requires the Review Board to publish in the Federal Register its determinations on the disclosure or postponement of records in the Collection no more than 14 days after the date of its decision.

FOR FURTHER INFORMATION CONTACT: Stephannie Oriabure, Chief of Staff, Civil Rights Cold Case, Records Review Board, 1800 F Street NW, Washington, DC 20405, (771) 221-0014, info@coldcaserecords.gov.

SUPPLEMENTARY INFORMATION:

Incident identifier | Postponement identifier | Review board decision
2024-003-011 | 2025-NARA-03-0001 and 2025-NARA-03-0002 | Reject.
2024-003-011 | 2025-NARA-03-0003 | Approve.
2024-003-011 | 2025-NARA-03-0004 | Approve with changes.
2024-003-011 | 2025-NARA-03-0005 | Reject.
2024-003-011 | 2025-NARA-03-0006 | Approve.
2024-003-011 | 2025-NARA-03-0007 and 2025-NARA-03-0008 | Reject.
2024-003-011 | 2025-NARA-03-0009 and 2025-NARA-03-0010 | Approve with changes.
2024-003-011 | 2025-NARA-03-0011 through 2025-NARA-03-0016 | Approve.
2024-003-011 | 2025-NARA-03-0017 through 2025-NARA-03-0019 | Reject.
2024-003-011 | 2025-NARA-03-0020 through 2025-NARA-03-0025 | Approve.
2024-003-011 | 2025-NARA-03-0026 | Reject.
2024-003-011 | 2025-NARA-03-0027 through 2025-NARA-03-0030 | Approve.
2024-003-011 | 2025-NARA-03-0031 | Reject.
2024-003-011 | 2025-NARA-03-0032 | Approve.
2024-003-011 | 2025-NARA-03-0033 | Reject.
2024-003-011 | 2025-NARA-03-0034 through 2025-NARA-03-0037 | Approve.
2024-003-011 | 2025-NARA-03-0038 through 2025-NARA-03-0040 | Reject.
2024-003-011 | 2025-NARA-03-0041 and 2025-NARA-03-0042 | Approve with changes.
2024-003-011 | 2025-NARA-03-0043 through 2025-NARA-03-0071 | Approve.
2024-003-011 | 2025-NARA-03-0072 | Reject.
2024-003-011 | 2025-NARA-03-0073 | Approve.
2024-003-011 | 2025-NARA-03-0074 through 2025-NARA-03-0077 | Reject.
2024-003-011 | 2025-NARA-03-0078 through 2025-NARA-03-0082 | Approve.
2024-003-046 | 2024-DOJ-03-0730 through 2024-DOJ-03-0733 | Approve.
2024-003-046 | 2024-DOJ-03-0734 through 2024-DOJ-03-0749 | Reject.
2024-003-046 | 2024-DOJ-03-0750 through 2024-DOJ-03-0752 | Approve.
2024-003-046 | 2024-DOJ-03-0753 through 2024-DOJ-03-0759 | Reject.
2024-003-046 | 2024-DOJ-03-0760 | Approve.
2024-003-046 | 2024-DOJ-03-0761 through 2024-DOJ-03-0763 | Reject.
2024-003-046 | 2024-DOJ-03-0764 through 2024-DOJ-03-0766 | Approve.
2024-003-046 | 2024-DOJ-03-0767 through 2024-DOJ-03-0769 | Reject.
2024-003-046 | 2024-DOJ-03-0770 and 2024-DOJ-03-0771 | Approve.
2024-003-046 | 2024-DOJ-03-0772 through 2024-DOJ-03-0787 | Reject.
2024-003-046 | 2024-DOJ-03-0788 through 2024-DOJ-03-0791 | Approve.
2024-003-046 | 2024-DOJ-03-0792 through 2024-DOJ-03-0799 | Reject.
2024-003-046 | 2024-DOJ-03-0800 | Approve.
2024-003-046 | 2024-DOJ-03-0801 and 2024-DOJ-03-0802 | Reject.
2024-003-046 | 2024-DOJ-03-0803 through 2024-DOJ-03-0806 | Approve.
2024-003-046 | 2024-DOJ-03-0807 through 2024-DOJ-03-0814 | Reject.
2024-003-046 | 2024-DOJ-03-0815 | Approve.
2024-003-046 | 2024-DOJ-03-0816 through 2024-DOJ-03-0818 | Reject.
2024-003-046 | 2024-DOJ-03-0819 | Approve.
2024-003-046 | 2024-DOJ-03-0820 and 2024-DOJ-03-0821 | Reject.
2024-003-046 | 2024-DOJ-03-0822 | Withdrawn by agency.
2024-003-046 | 2024-DOJ-03-0823 through 2024-DOJ-03-0841 | Reject.
2024-003-046 | 2024-DOJ-03-0842 | Approve.
2024-003-046 | 2024-DOJ-03-0843 through 2024-DOJ-03-0850 | Reject.
2024-003-046 | 2024-DOJ-03-0851 | Withdrawn by agency.
2024-003-046 | 2024-DOJ-03-0852 and 2024-DOJ-03-0853 | Approve with changes.
2024-003-046 | 2024-DOJ-03-0853a | Approve.
2024-003-046 | 2024-DOJ-03-0853b | Reject.
2024-003-046 | 2024-DOJ-03-0854 | Approve.
2024-003-046 | 2024-DOJ-03-0854a | Approve with changes.
2024-003-046 | 2024-DOJ-03-0855 | Approve.
2024-003-046 | 2024-DOJ-03-0856 | Approve with changes.
2024-003-046 | 2024-DOJ-03-0857 and 2024-DOJ-03-0858 | Reject.
2024-003-046 | 2024-DOJ-03-0859 | Approve.
2024-003-046 | 2024-DOJ-03-0860 | Approve with changes.
2024-003-046 | 2024-DOJ-03-0861 | Approve.
2024-003-046 | 2024-DOJ-03-0862 and 2024-DOJ-03-0863 | Withdrawn by agency.
2024-003-046 | 2024-DOJ-03-0864 | Reject.
2024-003-046 | 2024-DOJ-03-0865 and 2024-DOJ-03-0866 | Approve.
2024-003-046 | 2024-DOJ-03-0867 | Approve with changes.
2024-003-046 | 2024-DOJ-03-0868 | Approve.
2024-003-046 | 2024-DOJ-03-0869 | Withdrawn by agency.
2024-003-046 | 2024-DOJ-03-0870 | Approve with changes.
2024-003-046 | 2024-DOJ-03-0871 | Withdrawn by agency.
2024-003-046 | 2024-DOJ-03-0872 and 2024-DOJ-03-0873 | Approve with changes.
2024-003-046 | 2024-DOJ-03-0873a | Approve.
2024-003-046 | 2024-DOJ-03-0873b | Approve with changes.
2024-003-046 | 2024-DOJ-03-0874 | Approve.
2024-003-046 | 2024-DOJ-03-0874a | Approve with changes.
2024-003-046 | 2024-DOJ-03-0875 | Approve with changes.
2024-003-046 | 2024-DOJ-03-0876 and 2024-DOJ-03-0877 | Reject.
2024-003-046 | 2024-DOJ-03-0878 through 2024-DOJ-03-0881 | Approve.
2024-003-046 | 2024-DOJ-03-0882 | Approve with changes.
2024-003-046 | 2024-DOJ-03-0883 | Withdrawn by agency.
2024-003-046 | 2024-DOJ-03-0884 through 2024-DOJ-03-0886 | Approve.
2024-003-046 | 2024-DOJ-03-0887 | Approve with changes.
2024-003-046 | 2024-DOJ-03-0888 and 2024-DOJ-03-0889 | Approve.
2024-003-046 | 2024-DOJ-03-0890 and 2024-DOJ-03-0891 | Reject.
2024-003-046 | 2024-DOJ-03-0892 and 2024-DOJ-03-0893 | Approve.
2024-003-046 | 2024-DOJ-03-0894 through 2024-DOJ-03-0897 | Reject.
2024-003-046 | 2024-DOJ-03-0898 | Approve.
2024-003-046 | 2024-DOJ-03-0899 | Reject.
2024-003-046 | 2024-DOJ-03-0900 | Approve.
2024-003-046 | 2024-DOJ-03-0901 and 2024-DOJ-03-0902 | Reject.
2024-003-046 | 2024-DOJ-03-0903 | Approve.
2024-003-046 | 2024-DOJ-03-0904 | Reject.
2024-003-046 | 2024-DOJ-03-0905 | Approve.
2024-003-046 | 2024-DOJ-03-0906 and 2024-DOJ-03-0907 | Reject.
2024-003-046 | 2024-DOJ-03-0908 | Approve.
2024-003-046 | 2024-DOJ-03-0909 | Reject.
2024-003-046 | 2024-DOJ-03-0910 | Approve.
2024-003-046 | 2024-DOJ-03-0911 | Reject.
2024-003-046 | 2024-FBI-03-1671 through 2024-FBI-03-1673 | Reject.
2024-003-046 | 2024-FBI-03-1674 | Approve.
2024-003-046 | 2024-FBI-03-1675 through 2024-FBI-03-1713 | Reject.
2024-003-046 | 2024-FBI-03-1714 | Approve.
2024-003-046 | 2024-FBI-03-1715 through 2024-FBI-03-1728 | Reject.
2024-003-046 | 2024-FBI-03-1729 | Approve.
2024-003-046 | 2024-FBI-03-1730 through 2024-FBI-03-1744 | Reject.
2024-003-046 | 2024-FBI-03-1745 | Approve.
2024-003-046 | 2024-FBI-03-1746 and 2024-FBI-03-1747 | Reject.
2024-003-046 | 2024-FBI-03-1748 through 2024-FBI-03-1750 | Withdrawn by agency.
2024-003-046 | 2024-FBI-03-1751 | Reject.
2024-003-046 | 2024-FBI-03-1752 and 2024-FBI-03-1753 | Withdrawn by agency.
2024-003-046 | 2024-FBI-03-1754 through 2024-FBI-03-1770 | Reject.
2024-003-046 | 2024-FBI-03-1771 through 2024-FBI-03-1773 | Withdrawn by agency.
2024-003-046 | 2024-FBI-03-1774 | Reject.
2024-003-046 | 2024-FBI-03-1775 | Withdrawn by agency.
2024-003-046 | 2024-FBI-03-1776 | Reject.
2024-003-046 | 2024-FBI-03-1777 and 2024-FBI-03-1778 | Withdrawn by agency.
2024-003-046 | 2024-FBI-03-1779 through 2024-FBI-03-1796 | Reject.
2024-003-046 | 2024-FBI-03-1797 through 2024-FBI-03-1804 | Approve.
2024-003-046 | 2024-FBI-03-1805 and 2024-FBI-03-1806 | Reject.
2024-003-046 | 2024-FBI-03-1807 | Approve.
2024-003-046 | 2024-FBI-03-1808 | Reject.
2024-003-046 | 2024-FBI-03-1809 | Approve.
2024-003-046 | 2024-FBI-03-1810 and 2024-FBI-03-1811 | Reject.
2024-003-046 | 2024-FBI-03-1812 | Approve.
2024-003-046 | 2024-FBI-03-1813 | Reject.
2024-003-046 | 2024-FBI-03-1814 | Approve.
2024-003-046 | 2024-FBI-03-1815 and 2024-FBI-03-1816 | Reject.
2024-003-046 | 2024-FBI-03-1817 | Approve.
2024-003-046 | 2024-FBI-03-1818 | Reject.
2024-003-046 | 2024-FBI-03-1819 | Approve.
2024-003-046 | 2024-FBI-03-1820 and 2024-FBI-03-1821 | Reject.
2024-003-046 | 2024-FBI-03-1822 | Approve.
2024-003-046 | 2024-FBI-03-1823 through 2024-FBI-03-1829 | Reject.
2024-003-046 | 2024-FBI-03-1830 through 2024-FBI-03-1832 | Approve.
2024-003-046 | 2024-FBI-03-1833 | Withdrawn by agency.
2024-003-046 | 2024-FBI-03-1834 | Approve with changes.
2024-003-046 | 2024-FBI-03-1835 | Approve.
2024-003-046 | 2024-FBI-03-1836 and 2024-FBI-03-1837 | Withdrawn by agency.
2024-003-046 | 2024-FBI-03-1838 through 2024-FBI-03-1841 | Reject.
2024-003-046 | 2024-FBI-03-1842 | Approve.
2024-003-046 | 2024-FBI-03-1843 through 2024-FBI-03-1845 | Reject.
2024-003-046 | 2024-FBI-03-1846 | Withdrawn by agency.
2024-003-046 | 2024-FBI-03-1847 and 2024-FBI-03-1848 | Reject.
2024-003-046 | 2024-FBI-03-1849 | Approve.
2024-003-046 | 2024-FBI-03-1850 through 2024-FBI-03-1853 | Reject.
2024-003-046 | 2024-FBI-03-1854 | Approve.
2024-003-046 | 2024-FBI-03-1855 through 2024-FBI-03-1858 | Reject.
2024-003-046 | 2024-FBI-03-1859 and 2024-FBI-03-1860 | Approve.
2024-003-046 | 2024-FBI-03-1861 through 2024-FBI-03-1864 | Withdrawn by agency.
2024-003-046 | 2024-FBI-03-1865 | Approve with changes.
2024-003-046 | 2024-FBI-03-1866 | Withdrawn by agency.
2024-003-046 | 2024-FBI-03-1867 and 2024-FBI-03-1868 | Approve with changes.
2024-003-046 | 2024-FBI-03-1869 through 2024-FBI-03-1874 | Reject.
2024-003-046 | 2024-FBI-03-1875 through 2024-FBI-03-1877 | Approve with changes.
2024-003-046 | 2024-FBI-03-1878 | Withdrawn by agency.
2024-003-046 | 2024-FBI-03-1879 | Approve with changes.
2024-003-046 | 2024-FBI-03-1880 | Approve.
2024-003-046 | 2024-FBI-03-1881 | Withdrawn by agency.
2024-003-046 | 2024-FBI-03-1882 | Reject.
2024-003-046 | 2024-FBI-03-1883 | Approve.
2024-003-046 | 2024-FBI-03-1884 through 2024-FBI-03-1888 | Approve with changes.
2024-003-046 | 2024-FBI-03-1889 and 2024-FBI-03-1890 | Reject.
2024-003-046 | 2024-FBI-03-1891 and 2024-FBI-03-1892 | Approve.
2024-003-046 | 2024-FBI-03-1893 | Approve with changes.
2024-003-046 | 2024-FBI-03-1894 and 2024-FBI-03-1895 | Approve.
2024-003-046 | 2024-FBI-03-1896 through 2024-FBI-03-1900 | Reject.
2024-003-046 | 2024-FBI-03-1901 through 2024-FBI-03-1903 | Approved with changes.
2024-003-046 | 2024-FBI-03-1904 | Withdrawn by agency.
2024-003-046 | 2024-FBI-03-1905 | Approve with changes.
2024-003-046 | 2024-FBI-03-1906 | Approve.
2024-003-046 | 2024-FBI-03-1907 | Withdrawn by agency.
2024-003-046 | 2024-FBI-03-1908 | Reject.
2024-003-046 | 2024-FBI-03-1909 | Approve.
2024-003-046 | 2024-FBI-03-1910 through 2024-FBI-03-1914 | Approve with changes.
2024-003-046 | 2024-FBI-03-1915 through 2024-FBI-03-1917 | Reject.
2024-003-046 | 2024-FBI-03-1918 and 2024-FBI-03-1919 | Approve.
2024-003-046 | 2024-FBI-03-1920 | Approve with changes.
2024-003-046 | 2024-FBI-03-1921 and 2024-FBI-03-1922 | Approve.
2024-003-046 | 2024-FBI-03-1923 | Reject.
2024-003-046 | 2024-FBI-03-1924 | Approve.
2024-003-046 | 2024-FBI-03-1925 and 2024-FBI-03-1926 | Reject.
2024-003-046 | 2024-FBI-03-1927 | Approve.
2024-003-046 | 2024-FBI-03-1928 through 2024-FBI-03-1932 | Reject.
2024-003-046 | 2024-FBI-03-1933 through 2024-FBI-03-1937 | Approve.
2024-003-046 | 2024-FBI-03-1938 | Reject.
2024-003-046 | 2024-FBI-03-1939 | Approve.
2024-003-046 | 2024-FBI-03-1940 through 2024-FBI-03-1942 | Reject.
2024-003-046 | 2024-FBI-03-1943 | Approve with changes.
2024-003-046 | 2024-FBI-03-1944 and 2024-FBI-03-1945 | Approve.
2024-003-046 | 2024-FBI-03-1946 and 2024-FBI-03-1947 | Withdrawn by agency.
2024-003-046 | 2024-FBI-03-1948 | Approve.
2024-003-046 | 2024-FBI-03-1949 | Approve with changes.
2024-003-046 | 2024-FBI-03-1950 through 2024-FBI-03-1954 | Reject.
2024-003-046 | 2024-FBI-03-1955 | Approve with changes.
2024-003-046 | 2024-FBI-03-1956 and 2024-FBI-03-1957 | Approve with changes.
2024-003-046 | 2024-FBI-03-1958 and 2024-FBI-03-1959 | Withdrawn by agency.
2024-003-046 | 2024-FBI-03-1960 | Approve.
2024-003-046 | 2024-FBI-03-1961 | Approve with changes.
2024-003-046 | 2024-FBI-03-1962 | Reject.
2024-003-046 | 2024-FBI-03-1963 | Approve with changes.
2024-003-046 | 2024-FBI-03-1964 and 2024-FBI-03-1965 | Approve.
2024-003-046 | 2024-FBI-03-1966 and 2024-FBI-03-1967 | Withdrawn by agency.
2024-003-046 | 2024-FBI-03-1968 | Approve.
2024-003-046 | 2024-FBI-03-1969 | Approve with changes.
2024-003-046 | 2024-FBI-03-1970 and 2024-FBI-03-1971 | Reject.
2024-003-046 | 2024-FBI-03-1972 | Approve with changes.
2024-003-046 | 2024-FBI-03-1973 and 2024-FBI-03-1974 | Approve.
2024-003-046 | 2024-FBI-03-1975 and 2024-FBI-03-1976 | Withdrawn by agency.
2024-003-046 | 2024-FBI-03-1977 | Approve.
2024-003-046 | 2024-FBI-03-1978 | Approve with changes.
2024-003-046 | 2024-FBI-03-1979 | Reject.
2024-003-046 | 2024-FBI-03-1980 | Approve with changes.
2024-003-046 | 2024-FBI-03-1981 and 2024-FBI-03-1982 | Approve.
2024-003-046 | 2024-FBI-03-1983 and 2024-FBI-03-1984 | Withdrawn by agency.
2024-003-046 | 2024-FBI-03-1985 | Approve.
2024-003-046 | 2024-FBI-03-1986 | Approve with changes.
2024-003-046 | 2024-FBI-03-1987 through 2024-FBI-03-1993 | Reject.
2024-003-046 | 2024-FBI-03-1994 and 2024-FBI-03-1995 | Withdrawn by agency.
2024-003-046 | 2024-FBI-03-1996 | Reject.
2024-003-046 | 2024-FBI-03-1997 and 2024-FBI-03-1998 | Withdrawn by agency.
2024-003-046 | 2024-FBI-03-1999 | Reject.
2024-003-046 | 2024-FBI-03-2000 | Withdrawn by agency.
2024-003-046 | 2024-FBI-03-2001 through 2024-FBI-03-2006 | Reject.
2024-003-046 | 2024-FBI-03-2007 | Withdrawn by agency.
2024-003-046 | 2024-FBI-03-2008 | Reject.
2024-003-046 | 2024-FBI-03-2009 | Withdrawn by agency.
2024-003-046 | 2024-FBI-03-2010 through 2024-FBI-03-2013 | Reject.
2024-003-046 | 2024-FBI-03-2014 and 2024-FBI-03-2015 | Withdrawn by agency.
2024-003-046 | 2024-FBI-03-2016 | Approve.
2024-003-046 | 2024-FBI-03-2017 and 2024-FBI-03-2018 | Withdrawn by agency.
2024-003-046 | 2024-FBI-03-2019 through 2024-FBI-03-2021 | Reject.
2024-003-046 | 2024-FBI-03-2022 and 2024-FBI-03-2023 | Withdrawn by agency.
2024-003-046 | 2024-FBI-03-2024 and 2024-FBI-03-2025 | Reject.
2024-003-046 | 2024-FBI-03-2026 | Withdrawn by agency.
2024-003-046 | 2024-FBI-03-2027 | Reject.
2024-003-046 | 2024-FBI-03-2028 | Withdrawn by agency.
2024-003-046 | 2024-FBI-03-2029 | Reject.
2024-003-046 | 2024-FBI-03-2030 | Withdrawn by agency.
2024-003-046 | 2024-FBI-03-2031 through 2024-FBI-03-2034 | Approve.
2024-003-046 | 2024-FBI-03-2035 through 2024-FBI-03-2044 | Withdrawn by agency.
2024-003-046 | 2024-FBI-03-2045 through 2024-FBI-03-2048 | Approve.
2024-003-046 | 2024-FBI-03-2049 through 2024-FBI-03-2057 | Withdrawn by agency.
2024-003-046 | 2024-FBI-03-2058 | Reject.
2024-003-046 | 2024-FBI-03-2059 | Approve.
2024-003-046 | 2024-FBI-03-2060 | Reject.
2024-003-046 | 2024-FBI-03-2061 | Approve.
2024-003-046 | 2024-FBI-03-2062 through 2024-FBI-03-2076 | Reject.
2024-003-046 | 2024-FBI-03-2077 | Approve.
2024-003-046 | 2024-FBI-03-2078 and 2024-FBI-03-2079 | Reject.
2024-003-046 | 2024-FBI-03-2080 and 2024-FBI-03-2081 | Approve.
2024-003-046 | 2024-FBI-03-2082 | Withdrawn by agency.
2024-003-046 | 2024-FBI-03-2083 | Approve with changes.
2024-003-046 | 2024-FBI-03-2084 and 2024-FBI-03-2085 | Approve.
2024-003-046 | 2024-FBI-03-2086 | Withdrawn by agency.
2024-003-046 | 2024-FBI-03-2087 | Approve with changes.
2024-003-046 | 2024-FBI-03-2088 through 2024-FBI-03-2094 | Approve.
2024-003-046 | 2024-FBI-03-2095 and 2024-FBI-03-2096 | Approve with changes.
2024-003-046 | 2024-FBI-03-2097 | Approve.
2024-003-046 | 2024-FBI-03-2098 and 2024-FBI-03-2099 | Withdrawn by agency.
2024-003-046 | 2024-FBI-03-2100 through 2024-FBI-03-2103 | Approve.
2024-003-046 | 2024-FBI-03-2104 | Withdrawn by agency.
2024-003-046 | 2024-FBI-03-2105 | Approve with changes.
2024-003-046 | 2024-FBI-03-2106 | Approve.
2024-003-046 | 2024-FBI-03-2107 | Reject.
2024-003-046 | 2024-FBI-03-2108 | Approve with changes.
2024-003-046 | 2024-FBI-03-2109 through 2024-FBI-03-2112 | Approve.
2024-003-046 | 2024-FBI-03-2113 | Withdrawn by agency.
2024-003-046 | 2024-FBI-03-2114 | Approve with changes.
2024-003-046 | 2024-FBI-03-2115 | Approve.
2024-003-046 | 2024-FBI-03-2116 | Withdrawn by agency.
2024-003-046 | 2024-FBI-03-2117 | Approved with changes.
2024-003-046 | 2024-FBI-03-2118 and 2024-FBI-03-2119 | Approve.
2024-003-046 | 2024-FBI-03-2120 | Withdrawn by agency.
2024-003-046 | 2024-FBI-03-2121 | Approve with changes.
2024-003-046 | 2024-FBI-03-2122 | Approve.
2024-003-046 | 2024-FBI-03-2123 and 2024-FBI-03-2124 | Reject.
2024-003-046 | 2024-FBI-03-2125 and 2024-FBI-03-2126 | Withdrawn by agency.
2024-003-046 | 2024-FBI-03-2127 | Approve.
2024-003-046 | 2024-FBI-03-2128 and 2024-FBI-03-2129 | Withdrawn by agency.
2024-003-046 | 2024-FBI-03-2130 and 2024-FBI-03-2131 | Reject.
2024-003-046 | 2024-FBI-03-2132 and 2024-FBI-03-2133 | Withdrawn by agency.
2024-003-046 | 2024-FBI-03-2134 | Approve.
2024-003-046 | 2024-FBI-03-2135 and 2024-FBI-03-2136 | Withdrawn by agency.
2024-003-046 | 2024-FBI-03-2137 through 2024-FBI-03-2142 | Approve.
2024-003-046 | 2024-FBI-03-2143 through 2024-FBI-03-2146 | Reject.
2024-003-046 | 2024-FBI-03-2147 and 2024-FBI-03-2148 | Withdrawn by agency.
2024-003-046 | 2024-FBI-03-2149 and 2024-FBI-03-2150 | Reject.
2024-003-046 | 2024-FBI-03-2151 | Withdrawn by agency.
2024-003-046 | 2024-FBI-03-2152 | Reject.
2024-003-046 | 2024-FBI-03-2153 | Withdrawn by agency.
2024-003-046 | 2024-FBI-03-2154 through 2024-FBI-03-2157 | Reject.
2024-003-046 | 2024-FBI-03-2158 and 2024-FBI-03-2159 | Withdrawn by agency.
2024-003-046 | 2024-FBI-03-2160 and 2024-FBI-03-2161 | Reject.
2024-003-046 | 2024-FBI-03-2162 | Withdrawn by agency.
2024-003-046 | 2024-FBI-03-2163 | Reject.
2024-003-046 | 2024-FBI-03-2164 | Withdrawn by agency.
2024-003-046 | 2024-FBI-03-2165 through 2024-FBI-03-2172 | Reject.
2024-003-046 | 2024-FBI-03-2173 through 2024-FBI-03-2175 | Approve.
2024-003-046 | 2024-FBI-03-2176 | Withdrawn by agency.
2024-003-046 | 2024-FBI-03-2177 through 2024-FBI-03-2180 | Approve.
2024-003-046 | 2024-FBI-03-2181 through 2024-FBI-03-2188 | Withdrawn by agency.
2024-003-046 | 2024-FBI-03-2189 | Approve.
2024-003-046 | 2024-FBI-03-2190 | Reject.
2024-003-046 | 2024-FBI-03-2191 through 2024-FBI-03-2193 | Withdrawn by agency.
2024-003-046 | 2024-FBI-03-2194 through 2024-FBI-03-2197 | Approve.
2024-003-046 | 2024-FBI-03-2198 through 2024-FBI-03-2205 | Withdrawn by agency.
2024-003-046 | 2024-FBI-03-2206 | Approve.
2024-003-046 | 2024-FBI-03-2207 | Reject.
2024-003-046 | 2024-FBI-03-2208 through 2024-FBI-03-2210 | Withdrawn by agency.
2024-003-046 | 2024-FBI-03-2211 through 2024-FBI-03-2214 | Approve.
2024-003-046 | 2024-FBI-03-2215 through 2024-FBI-03-2222 | Withdrawn by agency.
2024-003-046 | 2024-FBI-03-2223 | Approve.
2024-003-046 | 2024-FBI-03-2224 and 2024-FBI-03-2225 | Reject.
2024-003-046 | 2024-FBI-03-2226 through 2024-FBI-03-2228 | Withdrawn by agency.
2024-003-046 | 2024-FBI-03-2229 through 2024-FBI-03-2232 | Approve.
2024-003-046 | 2024-FBI-03-2233 through 2024-FBI-03-2240 | Withdrawn by agency.
2024-003-046 | 2024-FBI-03-2241 | Approve.
2024-003-046 | 2024-FBI-03-2242 | Reject.
2024-003-046 | 2024-FBI-03-2243 and 2024-FBI-03-2244 | Withdrawn by agency.
2024-003-046 | 2024-FBI-03-2245 and 2024-FBI-03-2246 | Approve.
2024-003-046 | 2024-FBI-03-2247 | Reject.
2024-003-046 | 2024-FBI-03-2248 and 2024-FBI-03-2249 | Withdrawn by agency.
2024-003-046 | 2024-FBI-03-2250 and 2024-FBI-03-2251 | Reject.
2024-003-046 | 2024-FBI-03-2252 | Withdrawn by agency.
2024-003-046 | 2024-FBI-03-2253 | Reject.
2024-003-046 | 2024-FBI-03-2254 | Withdrawn by agency.
2024-003-046 | 2024-FBI-03-2255 through 2024-FBI-03-2260 | Reject.
2024-003-046 | 2024-FBI-03-2261 and 2024-FBI-03-2262 | Withdrawn by agency.
2024-003-046 | 2024-FBI-03-2263 through 2024-FBI-03-2265 | Approve.
2024-003-046 | 2024-FBI-03-2266 through 2024-FBI-03-2268 | Withdrawn by agency.
2024-003-046 | 2024-FBI-03-2269 | Reject.
2024-003-046 | 2024-FBI-03-2270 through 2024-FBI-03-2272 | Withdrawn by agency.
2024-003-046 | 2024-FBI-03-2273 | Approve.
2024-003-046 | 2024-FBI-03-2274 | Reject.
2024-003-046 | 2024-FBI-03-2275 and 2024-FBI-03-2276 | Withdrawn by agency.
2024-003-046 | 2024-FBI-03-2277 and 2024-FBI-03-2278 | Approve.
2024-003-046 | 2024-FBI-03-2279 | Approve with changes.
2024-003-046 | 2024-FBI-03-2280 | Withdrawn by agency.
2024-003-046 | 2024-FBI-03-2281 | Reject.
2024-003-046 | 2024-FBI-03-2282 and 2024-FBI-03-2283 | Approve.
2024-003-046 | 2024-FBI-03-2284 and 2024-FBI-03-2285 | Reject.
2024-003-046 | 2024-FBI-03-2286 and 2024-FBI-03-2287 | Withdrawn by agency.
2024-003-046 | 2024-FBI-03-2288 and 2024-FBI-03-2289 | Reject.
2024-003-046 | 2024-FBI-03-2290 | Withdrawn by agency.
2024-003-046 | 2024-FBI-03-2291 | Reject.
2024-003-046 | 2024-FBI-03-2292 | Withdrawn by agency.
2024-003-046 | 2024-FBI-03-2293 through 2024-FBI-03-2298 | Reject.
2024-003-046 | 2024-FBI-03-2299 | Withdrawn by agency.
2024-003-046 | 2024-FBI-03-2300 through 2024-FBI-03-2303 | Approve.
2024-003-046 | 2024-FBI-03-2304 through 2024-FBI-03-2311 | Withdrawn by agency.
2024-003-046 | 2024-FBI-03-2312 | Approve.
2024-003-046 | 2024-FBI-03-2313 | Reject.
2024-003-046 | 2024-FBI-03-2314 and 2024-FBI-03-2315 | Withdrawn by agency.
2024-003-046 | 2024-FBI-03-2316 through 2024-FBI-03-2319 | Approve.
2024-003-046 | 2024-FBI-03-2320 | Withdrawn by agency.
2024-003-046 | 2024-FBI-03-2321 | Approve.
2024-003-046 | 2024-FBI-03-2322 | Reject.
2024-003-046 | 2024-FBI-03-2323 | Approve.
2024-003-046 | 2024-FBI-03-2324 through 2024-FBI-03-2330 | Reject.
2024-003-046 | 2024-FBI-03-2331 | Approve.
2024-003-046 | 2024-FBI-03-2332 through 2024-FBI-03-2334 | Reject.
2024-003-046 | 2024-FBI-03-2335 | Approve.
2024-003-046 | 2024-FBI-03-2336 | Reject.

Authority: Pub. L. 115-426, 132 Stat. 5489 (44 U.S.C. 2107).

Dated: July 1, 2025.
Stephannie Oriabure,
Chief of Staff.

[FR Doc. 2025-12514 Filed 7-3-25; 8:45 am]

BILLING CODE 6820-SY-P